ENVIRONMENTAL PROTECTION AGENCY

[OPPT-2002-0015; FRL-7176-4]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from April 1, 2002 to April 17, 2002, consists of the PMNs pending or expired, and the notices of commencement to manufacture a new chemical that the Agency has received under TSCA section 5 during this time period. The “S” and “G” that precede the chemical names denote whether the chemical idenity is specific or generic.

DATES: Comments identified by the docket control number OPPT-2002-0015 and the specific PMN number, must be received on or before June 17, 2002.

ADDRESSES: Comments may be submitted by mail, electronically, or in person. Please follow the detailed instructions for each method as provided in Unit I. of the SUPPLEMENTARY INFORMATION. To ensure proper receipt by EPA, it is imperative that you identify docket control number OPPT-2002-0015 and the specific PMN number in the subject line on the first page of your response.

FOR FURTHER INFORMATION CONTACT: Barbara Cunningham, Acting Director, Office of Program Management and Evaluation, Office of Pollution Prevention and Toxics (7408M), Environmental Protection Agency, 1200 Pennsylvania Ave., NW., Washington, DC 20460; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Additional Information, Including Copies of this Document and Other Related Documents?

1. Electronically. You may obtain copies of this document and certain other available documents from the EPA Internet Home Page at http://www.epa.gov/. On the Home Page select “Laws and Regulations,” “Regulations and Proposed Rules,” and then look up the entry for this document under the “Federal Register—Environmental Documents.” You can also go directly to the Federal Register listings at http://www.epa.gov/fedrgstr/.

2. In person. The Agency has established an official record for this action under docket control number OPPT-2002-0015. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, any test data submitted by the Manufacturer/Importer is available for inspection in the TSCA Nonconfidential Information Center, North East Mall Rm. B- 607, Waterside Mall, 401 M St., SW., Washington, DC. The Center is open from noon to 4 p.m., Monday through Friday, excluding legal holidays. The telephone number of the Center is (202) 260-7099.

C. How and to Whom Do I Submit Comments?

You may submit comments through the mail, in person, or electronically. To ensure proper receipt by EPA, it is imperative that you identify docket control number OPPT-2002-0015 and the specific PMN number in the subject line on the first page of your response.

1. By mail. Submit your comments to: Document Control Office (7407), Office of Pollution Prevention and Toxics (OPPT), Environmental Protection Agency, 1200 Pennsylvania Ave., NW., Washington, DC 20460.

2. In person or by courier. Deliver your comments to: OPPT Document Control Office (DCO) in EPA East Building Rm. 6428, 1201 Constitution Ave., NW., Washington, DC. The DCO is open from 8 a.m. to 4 p.m., Monday through Friday, excluding legal holidays. The telephone number for the DCO is (202) 564-8930.

3. Electronically. You may submit your comments electronically by e-mail to: oppt.ncic@epa.gov, or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPT-2002-0015 and the specific PMN number. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket control number assigned to this action in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from April 1, 2002 to April 17, 2002, consists of the PMNs pending or expired, and the notices of commencement to manufacture a new chemical that the Agency has received under TSCA section 5 during this time period.

III. Receipt and Status Report for PMNs

This status report identifies the PMNs pending or expired, and the notices of commencement to manufacture a new chemical that the Agency has received under TSCA section 5 during this time period. If you are interested in information that is not included in the following tables, you may contact EPA as described in Unit II. to access additional non-CBI information that may be available. The “S” and “G” that precede the chemical names denote whether the chemical idenity is specific or generic.

In table I, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 70 Premanufacture Notices Received From: 04/01/02 to 04/17/02
Case No. | Received Date | Projected Notice End Date | Manufacturer/Importer | Use | Chemical
P-02-0511 | 04/01/02 | 06/30/02 | Reichhold, Inc. | (G) Polyurethane adhesive | (G) Liquid polyurethane adhesive
P-02-0512 | 04/02/02 | 07/01/02 | CBI | (G) Raw material used to manufacture processing aid | (S) Amides, from ammonia-ethanolamine reaction by-products and branched and linear C16-18 and C18-unsaturated fatty acids
P-02-0513 | 04/02/02 | 07/01/02 | CBI | (G) Raw material used to manufacture processing aid | (S) Fatty acids, C16-18 and C18-unsaturated, branched and linear, reaction products with polyethylenepolyamines
P-02-0514 | 04/03/02 | 07/02/02 | CBI | (G) Dyestuff in printing ink | (G) Diethoxybenzenamine derivative, diazotized, coupled with aminonaphthalenesulfonic acid derivative, ammonium salt
P-02-0515 | 04/02/02 | 07/01/02 | CBI | (G) Open, non-dispersive use | (G) Silated urethane resin
P-02-0516 | 04/03/02 | 07/02/02 | CBI | (G) Additive for lubricating oil | (G) Alkyl methacrylate copolymer
P-02-0517 | 04/03/02 | 07/02/02 | CBI | (G) Binder of pigment | (G) Rosin modified phenolic resin
P-02-0518 | 04/03/02 | 07/02/02 | CBI | (G) Non-dispersive use | (G) Blocked aromatic isocyanate
P-02-0519 | 04/03/02 | 07/02/02 | CBI | (S) Aqueous dispersion of polyurethane for leather finishing | (G) (substituted) dicarboxylic acid, polymer with dioic acid, (substituted) diol, hydrazine, (substituted) propanoic acid and (substituted) cylcohexane, compound with (substituted) amine
P-02-0520 | 04/03/02 | 07/02/02 | CBI | (G) Filling material | (G) Urethane prepolymer
P-02-0521 | 04/03/02 | 07/02/02 | CBI | (G) Coating material | (G) Substituted butadiene-styrene polymer
P-02-0522 | 04/04/02 | 07/03/02 | CIBA Specialty Chemicals Corp., Textile Effects | (S) Exhaust dyeing of polyester fibers | (G) Substituted acridine naphtha substituted benzamide
P-02-0523 | 04/04/02 | 07/03/02 | CBI | (S) Reactant in manufacture of polyester resins | (G) Oxyalkylated aralkylated phenolic
P-02-0524 | 04/04/02 | 07/03/02 | Aoc L.L.C. | (S) Polyester component for filament winding of fiberglass reinforced plastic parts; polyester component for relining/rehabilitation of sewer pipe | (S) 1,4-benzenedicarboxylic acid, polymer with 2,5-furandione, 2-methyl-1,3-propanediol and 2,2′-oxybis[ethanol]
P-02-0525 | 04/05/02 | 07/04/02 | Houghton International Inc. | (S) Lubricant Additive/emulsifier | (S) Fatty acids, C16-18 and C18-unsaturated, branched and linear, ethoxylated
P-02-0526 | 04/05/02 | 07/04/02 | Houghton International Inc. | (S) Lubricant Additive/emulsifier | (S) Fatty acids, C16-18 and C18-unsaturated, branched and linear, esters with polyethylene glycol mono(4-nonylphenyl) ether
P-02-0527 | 04/05/02 | 07/04/02 | Houghton International Inc. | (S) Lubricant Additive/emulsifier | (S) Fatty acids, C16-18 and C18-unsaturated, branched and linear, esters with polyethylene glycol mono-C12-14-sec alkyl ethers
P-02-0528 | 04/04/02 | 07/03/02 | CBI | (G) Catalyst | (G) Morpholine derivative
P-02-0529 | 04/04/02 | 07/03/02 | BASF Corporation | (S) Processing aid for leather tanning | (G) Diglyceride fatty acid, acetylated
P-02-0530 | 04/05/02 | 07/04/02 | CIBA Specialty Chemicals Corporation | (S) Photoinitiator for coatings and inks | (G) Alpha-amino ketone
P-02-0531 | 04/05/02 | 07/04/02 | CBI | (S) Primary lubricant in steel industry; hydraulic fluids; rolling oils | (S) Fatty acids, C16-18 C18-unsaturated, branched and linear, esters with trimethylolpropane
P-02-0532 | 04/05/02 | 07/04/02 | CBI | (G) Acrylic pressure sensitive adhesive | (G) Acrylic solution polymer
P-02-0533 | 04/08/02 | 07/07/02 | Eastman Chemical Company | (S) Chemical intermediate | (G) Sulfophenyl substituted alkyl acid, sodium salt
P-02-0534 | 04/08/02 | 07/07/02 | CBI | (G) Superplasticizer | (G) Substituted vinylether, ethoxylated
P-02-0535 | 04/09/02 | 07/08/02 | Solutia Inc. | (S) Drying agent for industrial paints | (G) Acrylic copolymer
P-02-0536 | 04/09/02 | 07/08/02 | The Dow Chemical Company | (G) Monomer for high performance polymers | (G) Cyclic diol
P-02-0537 | 04/09/02 | 07/08/02 | CBI | (S) Chemical intermediate | (S) Cyclohexane, 4-methyl-1-(1-methylethyl)-2-[(2-methyl-2-propenyl)oxy]-, (1s,2r,4r)-
P-02-0538 | 04/09/02 | 07/08/02 | CBI | (G) Lubricating grease | (G) Sulfonate salt
P-02-0539 | 04/09/02 | 07/08/02 | Custochem, Inc. | (S) Fiber lubricant | (S) Fatty acids, C16-18 and C18-unsaturated, branched and linear, ethoxylated
P-02-0540 | 04/10/02 | 07/09/02 | Estron Chemical Inc. | (G) Additive and intermediate for additives for coatings industry | (G) Aromatic acrylic
P-02-0541 | 04/10/02 | 07/09/02 | CBI | (G) Emulsifier or surfactant | (G) Alkylamidoalkylsulfonic acid salt
P-02-0542 | 04/10/02 | 07/09/02 | CBI | (G) Emulsifier or surfactant | (G) Alkylamidoalkylsulfonic acid salt
P-02-0543 | 04/10/02 | 07/09/02 | Custochem, Inc. | (S) Fiber lubricant | (S) Fatty acids, C16-18 and C18-unsaturatedd, branched and linear, diesters with polyethylene glycol
P-02-0544 | 04/10/02 | 07/09/02 | Liquid Plastics Inc. | (S) Polyurethane prepolymer for moisture curing paint system | (S) Oxirane, methyl-, polymer with alpha-hydro-omega-hydroxypoly[oxy(methyl-1,2-ethanediyl)], 5-isocyanato-1-(isocyanatomethyl)-1,3,3-trimethylcyclohexane and oxirane
P-02-0545 | 04/10/02 | 07/09/02 | CBI | (G) Additive for electroplating chemistry | (G) Low molecular heterocyclic organic compound
P-02-0546 | 04/10/02 | 07/09/02 | CBI | (G) Multi-purpose adhesive; open, non-dispersive use; laminating adhesive; open, non-dispersive use | (G) Polyurethane prepolymer; polyurethane hot melt adhesive
P-02-0547 | 04/11/02 | 07/10/02 | Dow Corning Corporation | (G) Siloxane resin Additive | (G) Dimethyl, hydridomethyl, methylalkylsiloxane
P-02-0548 | 04/08/02 | 07/07/02 | Eastman chemical Company | (S) Chemical intermediate | (G) Substituted pyrazole ester
P-02-0549 | 04/10/02 | 07/09/02 | Polyfuel, Inc. | (G) Contained use | (G) Substituted polyether
P-02-0550 | 04/11/02 | 07/10/02 | Hercules Incorporated | (G) Papermaking chemical | (G) Imidazolium salt
P-02-0551 | 04/11/02 | 07/10/02 | CBI | (G) Textile colorant | (G) 1,5(naphthalenedisulfonic acid, substituted sulfopheny)azo)-1-naphthalenyl) amino)-substituted-piperazinyl) substituted naphthalenyl)azo)-, sodium salt
P-02-0552 | 04/10/02 | 07/09/02 | CBI | (G) Open, non-dispersive (resin) | (G) Aliphatic diisocyanate prepolymer
P-02-0553 | 04/12/02 | 07/11/02 | Ferro Electronic Material Systems | (G) Intermediate chemical | (S) Titanate (2-), bis[ethanediato (2-)-kappa 01, kappa 02]oxo-, barium (1:1), (sp-5-21)-
P-02-0554 | 04/15/02 | 07/14/02 | CBI | (S) Coating in textile industry | (G) Polyurethane dispersion
P-02-0555 | 04/10/02 | 07/09/02 | Process Chemicals, LLC | (S) Asphalt Additive; ore flotation | (S) Amides, from branched and linear C16-18 and C18-unsaturated fatty acids and piperazineethanamine
P-02-0556 | 04/10/02 | 07/09/02 | Process Chemicals, LLC | (S) Asphalt Additive; ore flotation | (S) Fatty acids, C16-18 and C18-unsaturated, branched and linear, reaction products with 2-[(2-aminoethyl) amino]ethanol
P-02-0557 | 04/10/02 | 07/09/02 | Process Chemicals, LLC | (S) Asphalt Additive; ore flotation | (S) Amides, from branched and linear C16-18 and C18-unsaturated fatty acids and triethylenetetramine
P-02-0558 | 04/10/02 | 07/09/02 | Process Chemicals, LLC | (S) Asphalt Additive; ore flotation | (S) Amides, from branched and linear C16-18 and C18-unsaturated fatty acids and pentaethylenehexamine
P-02-0559 | 04/10/02 | 07/09/02 | Process Chemicals, LLC | (S) Asphalt Additive; ore flotation | (S) Amides, from branched and linear C16-18 and C18-unsaturated fatty acids and polyethylenepolyamines
P-02-0560 | 04/10/02 | 07/09/02 | Process Chemicals, LLC | (S) Asphalt Additive; ore flotation | (S) Amides, from branched and linear C16-18 and C18-unsaturated fatty acids and tetraethylenepentamine
P-02-0561 | 04/10/02 | 07/09/02 | Process Chemicals, LLC | (S) Asphalt Additive; ore flotation | (S) Fatty acids, C16-18 and C18-unsaturated branched and linear, reaction products with piperazineethanol
P-02-0562 | 04/15/02 | 07/14/02 | CBI | (G) Resin coating | (G) Urethane acrylate
P-02-0563 | 04/16/02 | 07/15/02 | NOF America Corp. | (G) Polymer alloy ingredient | (S) 2-propenoic acid, 2-methyl-, oxiranylmethyl ester, polymer with ethenylbenzene
P-02-0564 | 04/16/02 | 07/15/02 | CBI | (G) Fiberglass film former | (G) Isophorone diisocyanate, polymer with polyethylene- propyleneoxide bisphenol a epichlorohydrin copolymer
P-02-0565 | 04/16/02 | 07/15/02 | CBI | (G) Catalyst for manufacture of polymers | (G) Organic transition metal complex
P-02-0566 | 04/16/02 | 07/15/02 | Gateway Additive Company | (S) Metalworking fluids, soluble oil lubricants | (G) Polymer ester of mono and dibasic acids
P-02-0567 | 04/17/02 | 07/16/02 | CBI | (G) Open, non-diepersive use | (G) Modified acrylic polymer
P-02-0568 | 04/17/02 | 07/16/02 | CBI | (G) Component of coating with open use | (G) Phosphatized aromatic epoxy polymer
P-02-0569 | 04/17/02 | 07/16/02 | Cognis Corporation | (G) Synthetic fiber lubricant | (S) Nonanoic acid, reaction products with acetic acid, diethylenetriamine-ethylenimine polymer and urea
P-02-0578 | 04/17/02 | 07/16/02 | H.B. Fuller Company | (S) Wood laminating adhesive | (G) Polyester isocyanate
P-02-0579 | 04/17/02 | 07/16/02 | H.B. Fuller Company | (S) Wood laminating adhesive | (G) Polyester isocyanate
P-02-0580 | 04/17/02 | 07/16/02 | H.B. Fuller Company | (S) Wood laminating adhesive | (G) Polyester isocyanate
P-02-0581 | 04/17/02 | 07/16/02 | H.B. Fuller Company | (S) Wood laminating adhesive | (G) Polyester isocyanate

In table II, EPA provides the following information (to the extent that such information is not claimed as CBI) on the Notices of Commencement to manufacture received:

II. 29 Notices of Commencement From: 04/01/02 to 04/17/02
Case No. | Received Date | Commencement/Import Date | Chemical
P-00-0179 | 04/16/02 | 03/20/02 | (S) 1,3-benzenedicarboxylic acid, polymer with 1,4-cyclohexanedimethanol and dimethyl 1,4-benzenedicarboxylate
P-00-0363 | 04/01/02 | 03/13/02 | (G) Asphatic ester
P-00-0554 | 04/04/02 | 07/18/00 | (G) Diphenylmethane diisocyanate (mix of 4,4′ and 2,4′ isomeers) terminated polyester polyol
P-00-1047 | 04/05/02 | 03/19/02 | (G) Alkyl metal silicate
P-00-1053 | 04/04/02 | 03/21/02 | (G) Naphthalene sulfonic acid derivative
P-01-0076 | 04/16/02 | 03/20/02 | (G) Dimethyl terephthalate, polymer with cyclohexanedimethanol and disubstituted benzenedicarboxylic acid
P-01-0154 | 04/05/02 | 03/21/02 | (G) Organic transition metal complex
P-01-0279 | 04/16/02 | 12/22/01 | (G) Silicone salt
P-01-0765 | 04/10/02 | 03/19/02 | (G) Polyester of alkane polycarboxylic acid, alkene polycarboxylic acid, aromatic polycarboxylic acid and cycloalkane diols, neutralized with aminoalkanol
P-01-0931 | 04/17/02 | 04/03/02 | (G) Neodymium ziegler-natta catalyst
P-01-0946 | 04/01/02 | 01/18/02 | (G) Alkoxylated fatty amine
P-01-0947 | 04/01/02 | 03/11/02 | (G) Meko blocked aromatic polyisocyanate based on toluenedii Socyanate
P-01-0948 | 04/12/02 | 03/23/02 | (G) Spiro arylamine derivative
P-02-0072 | 04/16/02 | 03/18/02 | (G) Acrylate ester
P-02-0086 | 04/16/02 | 03/18/02 | (G) Polyester polyol
P-02-0107 | 04/12/02 | 03/29/02 | (G) Alkyl methacrylates, alkyl acrylates copolymer
P-02-0128 | 04/12/02 | 04/08/02 | (G) Polyester type polyurethane resin
P-02-0129 | 04/12/02 | 04/08/02 | (G) Organopolysiloxane containing carboxylic acid
P-02-0130 | 04/09/02 | 03/28/02 | (S) 4-formylphenylboronic acid*
P-02-0131 | 04/12/02 | 04/08/02 | (G) Methacrylate and maleimide copolymer
P-02-0132 | 04/11/02 | 04/09/02 | (G) Benzenediacetic acid derivative
P-02-0146 | 04/17/02 | 03/22/02 | (G) Modified polyester
P-02-0182 | 04/10/02 | 04/06/02 | (G) Polyolefin carboxylate alcohol
P-96-0172 | 04/03/02 | 03/14/02 | (G) Mono and di-amine salt carboxylate
P-98-0875 | 04/11/02 | 03/29/02 | (G) Substituted bicyclic olefin
P-99-0007 | 04/08/02 | 04/01/02 | (G) Organosilane derivatives
P-99-0460 | 04/16/02 | 09/25/01 | (G) Phtalic anhydride, polymer with diethyleneglycol aliphatic alcohol esters
P-99-0651 | 04/08/02 | 03/12/02 | (G) Polymer of acrylamide and substituted acrylates
P-99-0804 | 04/10/02 | 03/25/02 | (G) Modified polyester isocyanate prepolymer

List of Subjects

Environmental protection, Chemicals, Premanufacturer notices.

Dated: May 7, 2002.
Mary Louise Hewlett,
Acting Director, Information Management Division, Office of Pollution Prevention and Toxics.

[FR Doc. 02-12285 Filed 5-15-02; 8:45 am]

BILLING CODE 6560-50-S